DEPARTMENT OF LABOR

Employment and Training Administration

[TA-W-50,752]

Fishing Vessel (F/V) Todd Andrew Togiak, AK; Notice of Termination of Investigation

Pursuant to Section 221 of the Trade Act of 1974, as amended, an investigation was initiated on January 30, 2003 in response to a worker petition filed by the company on behalf of workers at Fishing Vessel (F/V) Todd Andrew, Togiak, Alaska.

The Department has been unable to locate the petitioner to obtain the information necessary to issue a determination. Consequently, further investigation would serve no purpose, and the investigation has been terminated.

Signed at Washington, DC this 9th day of April, 2003.
Linda G. Poole,
Certifying Officer, Division of Trade Adjustment Assistance.

[FR Doc. 03-10142 Filed 4-23-03; 8:45 am]

BILLING CODE 4510-30-P